DEPARTMENT OF AGRICULTURE

Animal and Plant Health Inspection Service

[Docket No. APHIS-2012-0053]

Importation of Fresh Oranges and Tangerines From Egypt Into the United States

AGENCY: Animal and Plant Health Inspection Service, USDA.

ACTION: Notice.

SUMMARY: We are advising the public of our decision to allow the importation of oranges and tangerines from Egypt. Based on the findings of a pest list and commodity import evaluation document, which we made available to the public for review and comment through a previous notice, we have concluded that the application of one or more designated phytosanitary measures will be sufficient to mitigate the pest risk associated with the importation of oranges and tangerines from Egypt. In addition, based on the findings of a treatment evaluation document, we are advising the public that we are adding a new treatment schedule in the Plant Protection and Quarantine Treatment Manual that can be used to neutralize peach fruit fly (Bactrocera zonata) and Mediterranean fruit fly (Ceratitis capitata) in oranges and tangerines.

DATES: Effective Date: August 16, 2013.

FOR FURTHER INFORMATION CONTACT: Mr. Tony Román, Regulatory Policy Specialist, APHIS, PPQ, 4700 River Road Unit 156, Riverdale, MD 20737; (301) 851-2242.

SUPPLEMENTARY INFORMATION:

Background

Under the regulations in “Subpart—Fruits and Vegetables” (7 CFR 319.56-1 through 319.56-59), the Animal and Plant Health Inspection Service (APHIS) prohibits or restricts the importation of fruits and vegetables into the United States from certain parts of the world to prevent the introduction and dissemination of plant pests.

Section 319.56-4 contains a performance-based process for approving the importation of commodities that, based on the findings of a pest risk analysis, can be safely imported subject to one or more of the designated phytosanitary measures listed in paragraph (b) of that section.

In accordance with that process, we published a notice in the Federal Register on April 18, 2013 (78 FR 23208-23209, Docket No. APHIS-2012-0053),¹ in which we announced the availability, for review and comment, of a list of pests associated with oranges and tangerines from Egypt and a commodity import evaluation document (CIED) that evaluates the risks associated with importation of fruit from Egypt into the United States.

¹ To view the notice, pest list, commodity import evaluation document, treatment evaluation document, and the comment we received, go to http://www.regulations.gov/#!docketDetail;D=APHIS-2012-0053.

Because of the time that had passed since importation of oranges from Egypt was suspended, APHIS prepared a pest list to identify pests of quarantine significance that could follow the pathway of importation of oranges and tangerines from Egypt. Based on the pest list, we then completed a CIED to identify phytosanitary measures that could be applied to mitigate the risks of introducing or disseminating the identified pests via the importation of oranges and tangerines from Egypt. We concluded that fresh oranges and tangerines can safely be imported into the United States from Egypt using one or more of the five designated phytosanitary measures listed in § 319.56-4(b). These measures are:

• The oranges and tangerines must be treated in accordance with 7 CFR part 305 for C. capitata and B. zonata; and

• The oranges and tangerines must be accompanied by a phytosanitary certificate issued by the national plant protection organization of Egypt stating that the consignment has begun or has undergone treatment for C. capitata and B. zonata in accordance with 7 CFR part 305, with an additional declaration stating that the fruit in the consignment was inspected and found free of B. zonata.

The phytosanitary treatments regulations contained in part 305 of 7 CFR chapter III set out standards for treatments required in parts 301, 318, and 319 of 7 CFR chapter III for fruits, vegetables, and other articles.

In § 305.2, paragraph (b) states that approved treatment schedules are set out in the Plant Protection and Quarantine (PPQ) Treatment Manual.² Section 305.3 sets out a process for adding, revising, or removing treatment schedules in the PPQ Treatment Manual. In that section, paragraph (a) sets out the process for adding, revising, or removing treatment schedules when there is no immediate need to make a change.

² The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

The PPQ Treatment Manual does not currently provide a treatment schedule for B. zonata in oranges and tangerines. Therefore, in accordance with § 305.3(a)(1), the notice we published in the Federal Register on April 18, 2013, announced the availability of a new cold treatment schedule T107-l, described further in the treatment evaluation document (TED), that we determined to be effective against B. zonata in oranges and tangerines.

In addition to B. zonata, Ceratitis capitata (Medfly) is the other pest of concern in oranges originating from Egypt. The new cold treatment schedule T107-l is more stringent than the treatment schedule approved for C. capitata in oranges and tangerines, T107-a, and therefore we have determined that the new cold treatment schedule is adequate to neutralize C. capitata as well as B. zonata.

We solicited comments on the notice, pest list, CIED, and TED for 60 days ending June 17, 2013. We received one comment by that date from a private citizen. The commenter agreed that cold treatment is an effective mitigation measure for peach fruit fly; however, the commenter expressed concern that administering treatment at the port of entry could be too late in the shipping process to avoid the spread of peach fruit flies to other fruits, further stating that any larvae in the fruit at the time of exportation could fully develop into an adult and migrate to other fruits while en route to the United States. The commenter recommended that all cold treatments be conducted prior to exportation from Egypt to prevent the spread of fruit flies during shipment.

We understand the commenter's concerns; however, the fruit is shipped in refrigerated containers, which keeps the larvae from developing further. In addition, proper containment methods described in the general cold treatment requirements in § 305.6 are also required to prevent fruit flies from spreading during shipment. Specifically, paragraphs (d)(3) and (d)(6) of that section require fruit that may be cold treated to be safeguarded to prevent cross-contamination or mixing with other infested fruit. Furthermore, only the same type of fruit in the same type of packaging may be treated together in a container and a numbered seal must be placed on the doors of the loaded container which can only be removed at the port of destination by an official authorized by APHIS. These safeguards have been used for many years during the treatment of a wide variety of commodities for fruit flies, and we have found them to be effective.

Therefore, in accordance with § 305.3, we are announcing the Administrator's decision to add the treatment described in the TED as it is an effective measure for neutralizing peach fruit fly and Medfly in oranges and tangerines. Furthermore, oranges and tangerines from Egypt may be imported into the United States subject to the requirements specified in the CIED.

The new treatment will be listed in the PPQ Treatment Manual, which is available at the Web address and mailing address in footnote 2 of this document.

Authority: 7 U.S.C. 450, 7701-7772, and 7781-7786; 21 U.S.C. 136 and 136a; 7 CFR 2.22, 2.80, and 371.3.

Done in Washington, DC, this 12th day of August 2013.
Kevin Shea,
Administrator, Animal and Plant Health Inspection Service.

[FR Doc. 2013-19958 Filed 8-15-13; 8:45 am]

BILLING CODE 3410-34-P